MISSISSIPPI RIVER COMMISSION

Sunshine Act Meetings

Correction

In notice document 06-1990 beginning on page 10719 in the issue of Thursday, March 2, 2006, make the following corrections:

1. On page 10720, in the first column, under the first MATTERS TO BE CONSIDERED heading, in the ninth and tenth lines, “Memphis District” should read “Vicksburg District”.

2. On the same page, in the same column, under the second MATTERS TO BE CONSIDERED heading, in the ninth and tenth lines, “Memphis District” should read “New Orleans District”.

[FR Doc. C6-1990 Filed 3-6-06; 8:45 am]

BILLING CODE 1505-01-D

DEPARTMENT OF TRANSPORTATION

Federal Aviation Administration

14 CFR Part 39

[Docket No. FAA-2005-21702; Directorate Identifier 2005-NM-024-AD; Amendment 39-14473; AD 2006-03-09]

RIN 2120-AA64

Airworthiness Directives; Airbus Model A330-200 and -300 Series Airplanes, A340-200 and -300 Series Airplanes, and A340-541 and -642 Airplanes

Correction

In rule document 06-989 beginning on page 5971 in the issue of Monday, February 6, 2006, make the following correction:

§39.13 [Corrected]

On page 5974, in §39.13, in Table 2, in the first column, under the heading “If inspection results reveal-”in the last entry, in the last line, “the left trim tank” should read “the right trim tank”.

[FR Doc. C6-989 Filed 3-6-06; 8:45 am]

BILLING CODE 1505-01-D

DEPARTMENT OF THE TREASURY

Internal Revenue Service

26 CFR Part 1

[REG-113365-04 and REG-209619-93]

RIN 1545-BD19 and RIN 1545-AR82

Escrow Accounts, Trusts, and Other Funds Used During Deferred Exchanges of Like-Kind Property

Correction

In proposed rule document 06-1038 beginning on page 6231 in the issue of Tuesday, February 7, 2006, make the following corrections:

§1.468B-6 [Corrected]

1. On page 6237, in §1.468B-6(e), in the table, in the fourth column, the heading “T's share*” should read “T's share* (percent)”.

2. On the same page, in the same section, in the same table, in the fifth column, the heading “Monthly interest (percent)” should read “Monthly interest”.

[FR Doc. C6-1038 Filed 3-6-06; 8:45 am]

BILLING CODE 1505-01-D